FEDERAL COMMUNICATIONS COMMISSION

Public Information Collections Approved by Office of Management and Budget

June 10, 2009.

SUMMARY: The Federal Communications Commission (FCC) has received Office of Management and Budget (OMB) approval for the following public information collections pursuant to the Paperwork Reduction Act of 1995, Public Law 104-13. An agency may not conduct or sponsor, and a person is not required to respond to, a collection of information unless it displays a currently valid control number.

FOR FURTHER INFORMATION CONTACT: Dana Wilson, Federal Communications Commission, 445 12th Street, SW., Washington, DC, 20554, (202) 418-2247 or via the Internet at Dana.Wilson@fcc.gov.

SUPPLEMENTARY INFORMATION:

OMB Control No.: 3060-0463.

OMB Approval Date: 07/20/2008.

Expiration Date: 07/31/2011.

Title: Telecommunications Relay Services and Speech-to-Speech Services for Individuals with Hearing and Speech Disabilities, Report and Order and Declaratory Ruling, CG Docket No. 03-123, FCC 07-186.

Form No.: N/A.

Estimated Annual Burden: 5,211 responses; 10 to 15 hours per response; 27,412 total annual hourly burden; $0 total annual cost.

Needs and Uses: On November 19, 2007, the Commission released the Telecommunications Relay Services and Speech-to-Speech Services for Individuals with Hearing and Speech Disabilities, Report and Order and Declaratory Ruling (2007 TRS Cost Recovery Order), CG Docket No. 03-123, FCC 07-186, adopting (1) A new cost recovery methodology for interstate traditional Telecommunications Relay Services (TRS) and interstate Speech-to-Speech (STS) based on the Multi-state Average Rate Structure (MARS) plan proposed by Hamilton Relay, Inc., (2) a new cost recovery methodology for interstate captioned telephone service (CTS) and interstate and intrastate Internet-Protocol (IP) Captioned Telephone Service (IP CTS) based on the MARS plan, (3) a cost recovery methodology for IP Relay based on price caps, and (4) a cost recovery methodology for Video Relay Services (VRS) that adopts tiered rates based on call volume. The 2007 TRS Cost Recovery Order also clarifies the nature and extent that certain categories of costs are compensable from the Interstate TRS Fund (Fund), and addresses certain issues concerning the management and oversight of the Fund, including financial incentives offered to consumers to make relay calls and the role of the Interstate TRS Fund Advisory Council.

The 2007 TRS Cost Recovery Order establishes reporting requirements associated with the MARS plan cost recovery methodology for compensation from the Fund. Specifically, TRS providers must submit to the Fund administrator the following information annually, on a per-state basis, regarding the previous calendar year: (1) The per-minute compensation rate(s) for intrastate traditional TRS, STS and CTS, (2) whether the rate applies to session minutes or conversation minutes, (3) the number of intrastate session minutes for traditional TRS, STS and CTS, and (4) the number of intrastate conversation minutes for traditional TRS, STS, and CTS. Also, STS providers must file a report annually with the Fund administrator and the Commission on their specific outreach efforts directly attributable to the additional compensation approved by the Commission for STS outreach.

In the 2007 TRS Cost Recovery Order, the Commission has assessed the effects of imposing the submission of rate data, and has found that there is no increased administrative burden on businesses with fewer than 25 employees. The Commission recognizes that the required rate data is presently available with the states and the providers of interstate traditional TRS, interstate STS, and interstate CTS, thereby no additional step is required to produce such data. The Commission therefore believes that the submission of the rate data does not increase an administrative burden on businesses.

OMB Control No.: 3060-0519.

OMB Approval Date: 10/31/2008.

Expiration Date: 10/31/2011.

Title: Rules and Regulations Implementing the Telephone Consumer Protection Act of 1991, CG Docket No. 02-278.

Form No.: N/A.

Estimated Annual Burden: 135,607,383 responses; .004 hours (15 seconds) to 1 hour per response; 625,406 total annual hourly burden; $4,590,000 total annual cost.

Needs and Uses: The reporting requirements included under this OMB Control Number 3060-0519 enable the Commission to gather information regarding violations of the Do-Not-Call Implementation Act (Do-Not-Call Act). If the information collection was not conducted, the Commission would be unable to track and enforce violations of the Do-Not-Call Act. The Do-Not-Call rules provide consumers with several options for avoiding most unwanted telephone solicitations.

This national do-not-call registry supplements the current company-specific do-not-call rules for those consumers who wish to continue requesting that particular companies not call them. Any company, which is asked by a consumer, including an existing customer, not to call again must honor that request for five (5) years.

However, a provision of the Commission's rules allows consumers to give specific companies permission to call them through an express written agreement. Nonprofit organizations, companies with whom consumers have an established business relationship, and calls to persons with whom the telemarketer has a personal relationship are exempt from the “do-not-call” registry requirements.

On September 21, 2004, the Commission released the Safe Harbor Order establishing a limited safe harbor in which persons will not be liable for placing autodialed and prerecorded message calls to numbers ported from a wireline service within the previous 15 days. The Commission also amended its existing national do-not-call registry safe harbor to require telemarketers to scrub their lists against the do-not-call database every 31 days.

On December 4, 2007, the Commission released the DNC NPRM seeking comment on its tentative conclusion that registrations with the Registry should be honored indefinitely, unless a number is disconnected or reassigned or the consumer cancels his registration.

On June 17, 2008, the Commission released a Report and Order in CG Docket No. 02-278, FCC 08-147, amending the Commission's rules under the Telephone Consumer Protection Act (TCPA) to require sellers and/or telemarketers to honor registrations with the National Do-Not-Call Registry so that registrations will not automatically expire based on the current five year registration period. Specifically, the Commission modifies 64.1200(c)(2) of its rules to require sellers and/or telemarketers to honor numbers registered on the Registry indefinitely or until the number is removed by the database administrator or the registration is cancelled by the consumer. In accordance with the Do-Not-Call Improvement Act of 2007, the Commission revises its rules to minimize the inconvenience to consumers of having to re-register their preferences not to receive telemarketing calls and to further the underlying goal of the National Do-Not-Call Registry to protect consumer privacy rights.

OMB Control No.: 3060-0687.

OMB Approval Date: 06/05/2009.

Expiration Date: 06/30/2012.

Title: Access to Telecommunications Equipment and Services by Persons with Disabilities, CC Docket No. 87-124.

Form No.: N/A.

Estimated Annual Burden: 22,500,000 responses; 1 second (0.000278 hours) to 15 seconds (0.004167 hours) per response; 6,693 total annual hourly burden; $266,280 total annual cost.

Needs and Uses: 47 CFR 68.224—Notice of non-hearing aid compatibility. Every non-hearing aid compatible telephone offered for sale to the public on or after August 17, 1989, whether previously-registered, newly registered or refurbished shall (a) contain in a conspicuous location on the surface of its packaging a statement that the telephone is not hearing aid compatible, or if offered for sale without a surrounding package, shall be affixed with a written statement that the telephone is not hearing aid compatible; and (b) be accompanied by instructions in accordance with 47 CFR 62.218(b)(2).

47 CFR 68.300—Labeling requirements. As of April 1, 1997, all registered telephones, including cordless telephones, manufactured in the United States (other than for export) or imported for use in the United States, that are hearing aid compatible shall have the letters “HAC” permanently affixed.

The information collections for both rules contain third party disclosure and labeling requirements. The information is used primarily to inform consumers who purchase and/or use telephone equipment whether the telephone is hearing aid compatible.

OMB Control No.: 3060-0717.

OMB Approval Date: 06/16/2008.

Expiration Date: 06/30/2011.

Title: Billed Party Preference for InterLATA 0+ Calls, CC Docket No. 92-77, 47 CFR 64.703(a), 64.709, 64.710.

Form No.: N/A.

Estimated Annual Burden: 11,250,150 responses; 60 seconds to 50 hours per response; 197,362 total annual hourly burden; $116,250 total annual cost.

Needs and Uses: Pursuant to 47 CFR 64.703(a), Operator Service Providers (OSPs) are required to disclose, audibly and distinctly to the consumer, at no charge and before connecting any interstate call, how to obtain rate quotations, including any applicable surcharges. 47 CFR 64.710 imposes similar requirements on OSPs to inmates at correctional institutions. 47 CFR 64.709 codifies the requirements for OSPs to file informational tariffs with the Commission. These rules help to ensure that consumers receive information necessary to determine what the charges associated with an OSP-assisted call will be, thereby enhancing informed consumer choice in the operator services marketplace.

OMB Control No.: 3060-0737.

OMB Approval Date: 03/17/2009.

Expiration Date: 03/31/2012.

Title: Disclosure Requirements for Information Services Provided Under a Presubscription or Comparable Arrangement.

Form No.: N/A.

Estimated Annual Burden: 1,000 responses; 4.5 hours per response; 4,500 total annual hourly burden; $0 total annual cost.

Needs and Uses: Section 64.1501(b) defines a presubscription or comparable arrangement as a contractual agreement in which an information service provider makes specified disclosures to consumers when offering “presubscribed” information services. The disclosures are intended to ensure that consumers receive information regarding the terms and conditions associated with these services before they enter into contracts to subscribe to them.

OMB Control No.: 3060-0787.

OMB Approval Date: 07/14/2008.

Expiration Date: 07/31/2011.

Title: Implementation of Subscriber Carrier Selection Changes Provisions of the Telecommunications Act of 1996; Policies and Rules Concerning Unauthorized Changes of Consumers' Long Distance Carriers, CC Docket No. 94-129, FCC 07-223.

Form No.: N/A.

Estimated Annual Burden: 25,041 responses; 0.50 to 10 hours per response; 105,901 total annual hourly burden; $51,285,000 total annual cost.

Needs and Uses: Section 258 of the Telecommunications Act of 1996 directed the Commission to prescribe rules to prevent the unauthorized change by telecommunications carriers of consumers' selections of telecommunications service providers (slamming). On March 17, 2003, the FCC released the Third Order on Reconsideration and Second Further Notice of Proposed Rulemaking, CC Docket No. 94-129, FCC 03-42 (Third Order on Reconsideration), in which the Commission revised and clarified certain rules to implement section 258 of the 1996 Act. On May 23, 2003, the Commission released an Order (CC Docket No. 94-129, FCC 03-116) clarifying certain aspects of the Third Order on Reconsideration. On January 9, 2008, the Commission released the Fourth Report and Order, CC Docket No. 94-129, FCC 07-223, revising its requirements concerning verification of a consumer's intent to switch carriers. The Fourth Report and Order modifies the information collection requirements contained in 64.1120(c)(3)(iii) to provide for verifications to elicit “confirmation that the person on the call understands that a carrier change, not an upgrade to existing service, bill consolidation, or any other misleading description of the transaction, is being authorized.”

OMB Control No.: 3060-0854.

OMB Approval Date: 09/29/2008.

Expiration Date: 09/30/2011.

Title: Truth-in-Billing Format, CC Docket No. 98-170 and CG Docket No. 04-208.

Form No.: N/A.

Estimated Annual Burden: 41,858 responses; 2 to 243 hours per response; 3,872,876 total annual hourly burden; $15,418,200 total annual cost.

Needs and Uses: On March 18, 2005, the Commission released Truth-in-Billing and Billing Format; National Association of State Utility Consumer Advocates' Petition for Declaratory Ruling Regarding Truth-in-Billing, Second Report and Order, Declaratory Ruling, and Second Further Notice of Proposed Rulemaking, CC Docket No. 98-170, CG Docket No. 04-208, 20 FCC Rcd 6448 (2005) (2005 Second Report and Order and Second Further Notice); published at 70 FR 29979 and 70 FR 30044, May 25, 2005, which determined, inter alia, that Commercial Mobile Radio Service providers no longer should be exempted from 47 CFR 64.2401(b), which requires billing descriptions to be brief, clear, non-misleading and in plain language. The 2005 Second Further Notice proposed and sought comment on measures to enhance the ability of consumers to make informed choices among competitive telecommunications service providers.

OMB Control No.: 3060-1047.

OMB Approval Date: 03/04/2009.

Expiration Date: 03/31/2012.

Title: Telecommunications Relay Services and Speech-to-Speech Services for Individuals with Hearing and Speech Disabilities, Report and order, FCC 03-112 and FCC 05-203.

Form No.: N/A.

Estimated Annual Burden: 80 responses; 1 to 8 hours per response; 322 total annual hourly burden; $230 total annual cost.

Needs and Uses: On December 12, 2005, the Commission released Telecommunications Relay Services and Speech-to-Speech Services for Individuals with Hearing and Speech Disabilities, CG Docket No. 03-123, Report and Order and Order on Reconsideration, 20 FCC Rcd 20577 (2005) (2005 TRS Report and Order), published at 70 FR 76208, December 23, 2005, which created another method for some Telecommunications Relay Service (TRS) providers to become eligible to receive compensation from the Interstate TRS Fund (Fund). Specifically, the 2005 TRS Report and Order amended the TRS regulations to permit a common carrier seeking to offer Video Relay Service (VRS) or Internet Protocol (IP) Relay Service and receive compensation from the Fund to apply to the Commission for certification as an entity providing these services in compliance with the TRS rules, and therefore eligible to receive reimbursement from the Fund. In a subsequent declaratory ruling, the Commission also permitted entities desiring to provide IP captioned telephone service to seek certification from the Commission for eligibility to receive compensation from the Fund. Telecommunications Relay Services and Speech-to-Speech Services for Individuals with Hearing and Speech Disabilities; Internet-based Captioned Telephone Service, CG Docket No. 03-123, Declaratory Ruling, 22 FCC Rcd 379 (2007), published at 72 FR 6960, February 14, 2007.

In order to facilitate this certification process, the Commission adopted information collection requirements that include the following:

(A) 47 CFR 64.606 (a)(2): Providing documentation detailing: (1) A description of the forms of TRS to be provided, (2) a description of how the provider will meet all non-waived mandatory minimum standards applicable to each form of TRS offered, (3) a description of the provider's procedures for ensuring compliance with all applicable TRS rules, (4) a description of the provider's complaint procedures, (5) a narrative describing any areas in which the provider's service will differ from the applicable mandatory minimum standards, (6) a narrative establishing that services that differ from the mandatory minimum standards do not violate applicable mandatory minimum standards, (7) demonstration of status as a common carrier, and (8) a statement that the provider will file annual compliance reports demonstrating continued compliance with the rules;

(B) 47 CFR 64.606 (c)(2): A provider may apply for renewal of its certification by filing documentation with the Commission, at least 90 days prior to expiration of certification, containing the information described in 47 CFR 64.606 (a)(2);

(C) 47 CFR 64.606 (e)(2): A provider must submit documentation demonstrating ongoing compliance with the Commission's minimum standards if, for example, the Commission receives evidence that a certified provider may not be in compliance with the minimum standards and the Commission requests such information;

(D) 47 CFR 64.606 (f)(2): Providers certified under this section must notify the Commission of substantive changes in their TRS programs, services, and features within 60 days of when such changes occur, and must certify that the interstate TRS provider continues to meet Federal minimum standards after implementing the substantive change; and

(E) 47 CFR 64.606 (g): Providers certified under this section shall file with the Commission, on an annual basis, a report providing evidence that they are in compliance with 47 CFR 64.604. In Telecommunication Relay Services and Speech-to-Speech Services for Individuals with Hearing and Speech Disabilities; Americans with Disabilities Act of 1990, CG Docket No. 03-123, CC Docket No. 98-67, Second Report and Order, Order on Reconsideration, and Notice of Proposed Rulemaking, 18 FCC Rcd 12379 (2003), published at 68 FR 50993, August 25, 2003, the Commission adopted additional requirements related to the substance and implementation of TRS mandatory minimum standards. In 47 CFR 64.604(a)(3), the Commission required TRS facilities to provide speed dialing functionality, which may entail providers maintaining a list of telephone numbers. In addition, the Commission bolstered the contact information requirements of 47 CFR 64.604(c)(2).

Furthermore, the Commission required providers receiving waivers of some of these standards to submit to the Commission an annual waiver report that details (1) The technological changes with respect to the functionalities covered by the waivers; (2) the progress made; and (3) the steps taken to resolve the technological problems that prevent these providers from offering certain types of TRS calls and features.

OMB Control No.: 3060-1089.

OMB Approval Date: 11/14/2008.

Expiration Date: 11/30/2011.

Title: Telecommunications Relay Services and Speech-to-Speech Services for Individuals with Hearing and Speech Disabilities; E911 Requirements for IP-Enabled Service Providers, CG Docket No. 03-123 and WC Docket No. 05-196, FCC 08-151.

Form No.: N/A.

Estimated Annual Burden: 1,680,044 responses; 3 minutes (.05 hours) to 1 hour per response; 98,616 total annual hourly burden; $4,224,346 total annual cost.

Needs and Uses: On November 30, 2005, the Commission released Telecommunications Relay Services and Speech-to-Speech Services for Individuals with Hearing and Speech Disabilities; Access to Emergency Services, Notice of Proposed Rulemaking (VRS/IP Relay 911 NPRM), CG Docket No. 03-123, FCC 05-196, published at 71 FR 5221 (February 1, 2006), which addressed the issue of access to emergency services for Internet-based forms of Telecommunications Relay Services (TRS), namely Video Relay Service (VRS) and Internet Protocol (IP) Relay. The Commission sought to adopt means to ensure that such calls promptly reach the appropriate emergency service provider.

On May 8, 2006, the Commission released Telecommunications Relay Services and Speech-to-Speech Services for Individuals with Hearing and Speech Disabilities; Misuse of IP Relay Service and Video Relay Service, Further Notice of Proposed Rulemaking (IP Relay/VRS Misuse FNPRM), CG Docket No. 03-123, FCC 06-58, published at 71 FR 31131 (June 1, 2006), which sought further comment on whether IP Relay and VRS providers should be required to implement user registration systems and what information users should provide, as a means of curbing illegitimate IP Relay and VRS calls.

On May 9, 2006, the Commission released Telecommunications Relay Services and Speech-to-Speech Services for Individuals with Hearing and Speech Disabilities, Declaratory Ruling and Further Notice of Proposed Rulemaking (Interoperability Declaratory Ruling and FNPRM), CG Docket No. 03-123, FCC 06-57, published at 71 FR 30818 and 71 FR 30848 (May 31, 2006). In the Interoperability Declaratory Ruling and FNPRM, the Commission sought comment on the feasibility of establishing a single, open, and global database of proxy numbers for VRS users that would be available to all service providers, so that a hearing person can call a VRS user through any VRS provider, and without having first to ascertain the VRS user's current IP address.

On June 24, 2008, the Commission released Telecommunications Relay Services and Speech-to-Speech Services for Individuals with Hearing and Speech Disabilities; E911 Requirements for IP-Enabled Service Providers, Report and Order and Further Notice of Proposed Rulemaking (Report and Order), CG Docket No. 03-123 and WC Docket No. 05-196, FCC 08-151, addressing the issues raised in these notices. The Report and Order provides VRS and IP Relay users with a reliable and consistent means by which others (including emergency personnel) can identify or reach them by, among other things, integrating VRS and IP Relay users into the ten-digit, NANP numbering system.

First, to complete a telephone call to an Internet-based TRS user, a provider must have some method of logically associating the telephone number dialed by the caller to the Internet-based TRS user's device. That method, known as the TRS Numbering Directory, is a central database that maps each user's telephone number to routing information needed to find that user's device on the Internet. The Report and Order requires VRS and IP Relay providers to collect and maintain the routing information from their registered users and to provision that information to the TRS Numbering Directory so that this mapping can occur.

Second, because there is no reliable means for VRS and IP Relay providers, unlike wireline carriers, to automatically know the physical location of their users, the Report and Order requires VRS and IP Relay providers to collect and maintain the Registered Location of their registered users. And to ensure that authorities can retrieve a user's Registered Location (along with the provider's name and CA's identification number for callback purposes), the Report and Order requires VRS and IP Relay providers to provision that information into, or make that information available through, ALI databases across the country.

Third, to ensure that VRS and IP Relay users are aware of their providers' numbering and E911 service obligations and to inform those users of their providers' E911 capabilities, the Report and Order requires each VRS and IP Relay provider to post an advisory on its Web site, and in any promotional materials directed to consumers, addressing numbering and E911 services for VRS or IP Relay. Providers also must obtain and keep a record of affirmative acknowledgement from each of their registered users of having received and understood the user notification.

Federal Communications Commission.
Marlene H. Dortch,
Secretary.

[FR Doc. E9-14321 Filed 6-17-09; 8:45 am]

BILLING CODE 6712-01-P